DEPARTMENT OF THE INTERIOR

Bureau of Land Management

Notice of Proposed Reinstatement of Terminated Oil and Gas Lease NMNM 13277

AGENCY: Bureau of Land Management, Interior.

ACTION: Notice.

SUMMARY: Under the provisions of section 371(a) of the Energy Policy Act of 2005, the lessee(s), Culbertson Management Trust, Dan W. Irwin, and Kathleen Irwin Schuster, timely filed a petition for reinstatement of oil and gas lease NMNM 13277 in Lea County, NM. The lessees paid the required rental accruing from the date of termination, June 1, 2002.

No leases were issued that affect these lands. The lessee agrees to the new lease terms for rentals and royalties of ($25 per acre) and 24⅔ percent rate. The lessees paid the $500 administration fee for the reinstatement of the lease and $158 cost for publishing this Notice.

The lessees met the requirements for reinstatement of the lease per Sec. 31(e) of the Mineral Leasing Act of 1920 (30 U.S.C. 188(e)). We are proposing to reinstate the lease, effective the date of termination subject to:

• The original terms and conditions of the lease;

• The increased rental of ($25) per acre;

• The increased royalty of 24⅔ percent or 4 percentages above the existing competitive royalty rate; and

• The $158 cost of publishing this Notice.

FOR FURTHER INFORMATION CONTACT: Gloria Baca, BLM, New Mexico State Office, (505) 438-7566.

Dated: November 4, 2005.
Gloria Baca,
Land Law Examiner.

[FR Doc. 05-22978 Filed 11-18-05; 8:45 am]

BILLING CODE 4310-FB-P